DEPARTMENT OF JUSTICE

Notice of Lodging of Proposed Consent Decree Under the Clean Water Act

On August 4, 2016, the Department of Justice lodged a proposed Consent Decree with the United States District Court for the Western District of Pennsylvania in the lawsuit entitled United States and the Pennsylvania Department of Environmental Protection v. CONSOL Energy Inc., et al., Civil Action No. 2:16-CV-01178.

The proposed Consent Decree will resolve Clean Water Act and associated state claims alleged in this action by the United States and the Pennsylvania Department of Environmental Protection Against CONSOL Energy Inc., CNX Coal Resources LP, and Consol Pennsylvania Coal Company LLC for the discharge of pollutants from the Bailey Mine Complex in Greene and Washington Counties, Pennsylvania, into state waters and waters of the United States in violation of limits in National Pollutant Discharge Elimination System (“NPDES”) permits. Under the proposed Consent Decree, Defendants will perform injunctive relief including implementing water management measures to prevent contaminated discharge, conducting long-term monitoring to ensure sufficient storage capacity to prevent future discharges, developing contingency plans should future discharges become likely, and implementing an environmental management system to ensure compliance with the Clean Water Act and other applicable environmental laws. In addition, Defendants will pay a total civil penalty of $3 million in three installments, with the last payment on January 15, 2018.

The publication of this notice opens a period for public comment on the Consent Decree. Comments should be addressed to the Assistant Attorney General, Environment and Natural Resources Division, and should refer to United States and the Pennsylvania Department of Environmental Protection v. CONSOL Energy Inc. et al., D.J. Ref. No. 90-5-1-1-10614. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $15.25 (25 cents per page reproduction cost) payable to the United States Treasury.

Jeffrey Sands,
Assistant Section Chief, Environmental Enforcement Section, Environment and Natural Resources Division.

[FR Doc. 2016-18931 Filed 8-9-16; 8:45 am]

BILLING CODE 4410-15-P